DEPARTMENT OF JUSTICE

Notice of Lodging of Proposed Consent Decree Under the Clean Water Act

On April 8, 2024, the Department of Justice lodged a proposed Consent Decree with the United States District Court for the Northern District of Alabama in the lawsuit entitled United States of America, State of Alabama, and South Carolina Department of Health and Environmental Control v. D.R. Horton, Inc. and D.R. Horton, Inc.—Birmingham, Civil Action No. 2:24-cv-00428-AMM.

The Complaint alleges that defendants violated the Clean Water Act's stormwater management requirements at 16 home-building construction sites. The Consent Decree resolves the claims against both defendants, who must implement specified stormwater management practices, implement a supplemental environmental project that will cost them $400,000, and pay a civil penalty of $400,000.

The publication of this notice opens a period for public comment on the Consent Decree. Comments should be addressed to the Assistant Attorney General, Environment and Natural Resources Division, and should refer to United States of America, State of Alabama, et al. v. D.R. Horton, Inc., et al., and D.J. Ref. No. 90-5-1-1-11099. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Consent Decree may be examined and downloaded at this Justice Department website: https://www.justice.gov/enrd/consent-decrees. If you require assistance accessing the Consent Decree you may request assistance by email or by mail to the addresses provided above for submitting comments.

Scott Bauer,
Assistant Section Chief, Environmental Enforcement Section, Environment and Natural Resources Division.

[FR Doc. 2024-07739 Filed 4-10-24; 8:45 am]

BILLING CODE 4410-15-P